DEPARTMENT OF ENERGY

10 CFR Chs. II, III, and X

48 CFR Ch. 9

Semiannual Regulatory Agenda

AGENCY: Department of Energy.

ACTION: Notice of semiannual regulatory agenda.

SUMMARY: The Department of Energy (DOE) has prepared and is making available its portion of the semiannual Unified Agenda of Federal Regulatory and Deregulatory Actions (Agenda) pursuant to Executive Order 12866, “Regulatory Planning and Review,” 58 FR 51735, and the Regulatory Flexibility Act, 5 U.S.C. 601 et seq.

SUPPLEMENTARY INFORMATION: The Agenda is a Governmentwide compilation of upcoming and ongoing regulatory activity taking place over the next 12 months, including a brief description of each rulemaking and a timetable for action. The Agenda also includes a list of regulatory actions completed since publication of the last Agenda. The Department of Energy's portion of the Agenda includes regulatory actions called for by the Energy Policy Act of 2005, the Energy Independence and Security Act of 2007, and programmatic needs of DOE offices.

The Internet is the basic means for disseminating the Agenda and providing users the ability to obtain information from the Agenda database. DOE's entire Spring 2011 Agenda can be accessed online by going to: http://www.reginfo.gov. Agenda entries reflect the status of activities as of approximately April 30, 2011.

Publication in the Federal Register is mandated by the Regulatory Flexibility Act (5 U.S.C. 602) only for Agenda entries that require either a regulatory flexibility analysis or periodic review under section 610 of that Act. DOE has one rulemaking that required a regulatory flexibility analyses: Energy Efficiency Standards for Certain Commercial and Industrial Electric Motors.

Issued in Washington, DC, on March 1, 2011.
Scott Blake Harris,
General Counsel.

Energy Efficiency and Renewable Energy—Proposed Rule Stage
Sequence No. | Title | Regulation Identifier No.
137 | Energy Efficiency Standards for Certain Commercial and Industrial Electric Motors | 1904-AC28

DEPARTMENT OF ENERGY (DOE)

Energy Efficiency and Renewable Energy (EE)

Proposed Rule Stage

137. Energy Efficiency Standards for Certain Commercial and Industrial Electric Motors

Legal Authority: 42 U.S.C. 6313(b)(4)(B)

Abstract: The Energy Independence and Security Act of 2007 (EISA 2007) updated the energy efficiency standards for electric motors covered in Energy Policy and Conservation Act (EPCA) and established energy efficiency standards for a larger scope of motors previously not covered. EPCA requires that a final rule determining whether to amend standards be published no later than 24 months after the effective date of the previous final rule. As EISA 2007 constitutes the previous amendment to energy conservation standards for electric motors and its effective date is December 19, 2010, DOE must publish this amendment to energy conservation standards for electric motors by December 19, 2012.

Timetable:

Action | Date | FR Cite
Notice: Public Meeting Framework Document Availibility | 09/28/10 | 75 FR 59657
Comment Period End | 11/24/10 |
NPRM | 04/00/12 |
Final Action | 12/00/12 |

Regulatory Flexibility Analysis Required: Yes.

Agency Contact: James Raba, Office of Building Technologies Program, EE-2J, Department of Energy, Energy Efficiency and Renewable Energy, 1000 Independence Avenue, SW., Washington, DC 20585, Phone: 202 586-8654, E-mail: jim.raba@ee.doe.gov.

RIN: 1904-AC28

[FR Doc. 2011-15485 Filed 7-6-11; 8:45 am]

BILLING CODE 6450-01-P